DEPARTMENT OF TRANSPORTATION

National Highway Traffic Safety Administration

[Docket No. NHTSA-99-6685; Notice 1]

General Motors Corporation, Receipt of Application for Decision of Inconsequential Noncompliance

General Motors Corporation (GM) has determined that certain 1999 Chevrolet vehicles are not in full compliance with Federal Motor Vehicle Safety Standard (FMVSS) No. 120, “Tire selection and rims for motor vehicles other than passenger cars,” and has filed an appropriate report pursuant to 49 CFR part 573, “Defect and Noncompliance Reports.” GM has also applied to be exempted from the notification and remedy requirements of 49 U.S.C. Chapter 301—“Motor Vehicle Safety” on the basis that the noncompliance and defect (represented by the failures to meet Part 567) are inconsequential to motor vehicle safety.

This notice of receipt of an application is published under 49 U.S.C. 30118 and 30120 and does not represent any agency decision or other exercise of judgment concerning the merits of the application.

The purpose of FMVSS No. 120 is to provide safe operation of vehicles by ensuring that those vehicles are equipped with tires of appropriate size and load rating; and rims of appropriate size and type designation. Paragraph S5.2 of FMVSS No. 120 requires that each rim or, at the option of the manufacturer in the case of a single-piece wheel, the wheel disc be marked with specific information, including a designation which indicates the source of the rim's published nominal dimensions, and the rim size designation, and in case of multipiece rims, the rim designation. For example: 20 x 5.50, or 20 x 5.5.

Between March 1, 1999, and March 13, 1999, GM produced 11,522 Blazers and S-10 trucks that may contain wheels that are missing the width designation in the rim marking on the back side of the wheel. GM's wheel supplier, Reynolds-Rualca, Venezuela, produced 3,721 wheels that had an error in the rim size designation. Instead of the correct rim size designation of “15x7,” these wheels have a rim size designation of “15x7”. The error occurred when one the wheel casting molds was refurbished. Of the 3,721 mis-marked wheels produced, a maximum of mis-designated 1,658 wheels were installed on the Chevrolet vehicles. The rim markings other than the rim width designation were not affected by the refurbishing error, and the remainder of the rim marking information, including rim diameter, is correct on all of the 1,658 wheels.

GM supports its application for inconsequential noncompliance by stating the following:

1. “The tire and rim of the affected wheels are properly matched, and are appropriate for the load-carrying characteristics of these vehicles. The lack of complete marking has no effect on the performance of the tire/rim combination of the subject vehicles.”

2. “These vehicles have a placard on the left front door that contains the correct and complete tire and rim sizes installed on these vehicles. The placard on the subject vehicles shows rim size completely and correctly as 15x7J.”

3. “The owner's manual provided with these vehicles contains a section ‘Buying New Tires.’ The text of this section advises the customer that they should look at the Certification/Tire Label to find out what kind and size of tires they need. It goes on to tell them that they should get new tires with the same Tire Performance Criteria Specification (TPC Spec) that the vehicle came with, and that they can find the TPC number on each tire's sidewall. Finally it advises them that if they were to replace the tires with those not having the TPC Spec number found on the original equipment tires, they should make sure that the tires they choose are the same size, load range, speed rating and construction type as the original tires. Nowhere are customers told to look at the wheel to determine the appropriate tire.”

4. “General Motors believes that very few of these wheels will ever have to be replaced over the life of the vehicle. Nevertheless, the owner's manual provided with these vehicles contains a section ‘Wheel Replacement.’ This section states that each new wheel should have the same load-carrying, diameter, width, offset and be mounted in the same way as the one it replaces. It also advises customers that their dealer will know the kind of wheel they need. The wheels at issue here are not marked with an incorrect width. Rather, they have no width marking. Therefore a dealer would not be mislead by a width marking on the wheel, but would look at the placard if they were not aware of the exact width.”

5. “If a customer needs to replace a tire or a wheel, he/she is likely to go to a tire/wheel store, or a vehicle dealer. The skilled personnel at any of these places know how to determine the correct tire or wheel size that they are replacing. For the tire replacement, it is highly probable that they will first look at the tire sidewall to determine the replacement tire size. They also know that the information exists on the placard and may look at the placard. For the wheel replacement, they may look at the tire placard or at the wheel itself to determine the replacement size. The subject wheels do not give incorrect information, however the information is incomplete. Since the information on the wheel is incomplete, the person looking at it will look elsewhere to find the missing information prior to selecting replacement wheel or tire size. For the correct tire selection, rim diameter is of primary importance, and the tire diameter must be the same as the rim diameter. The information on the subject wheels does contain the correct rim diameter, i.e., 15.”

Interested persons are invited to submit written data, views, and arguments on the application described above. Comments should refer to the docket number and be submitted to: U.S. Department of Transportation, Docket Management, Room PL-401, 400 Seventh Street, SW, Washington, DC, 20590. It is requested that two copies be submitted.

All comments received before the close of business on the closing date indicated below will be considered. The application and supporting materials, and all comments received after the closing date, will also be filed and will be considered to the extent possible. When the application is granted or denied, the notice will be published in the Federal Register pursuant to the authority indicated below.

Comment closing date: February 18, 2000.

Authority: 49 U.S.C. 30118, 30120; delegations of authority at 49 CFR 1.50 and 501.8.

Issued on: January 13, 2000.
Stephen R. Kratzke,
Acting Associate Administrator for Safety Performance Standards.

[FR Doc. 00-1227 Filed 1-18-00; 8:45 am]

BILLING CODE 4910-59-P